DEPARTMENT OF LABOR

Employment and Training Administration

[TA-W-80,511]

Specialty Bar Products Company; A Subsidiary of Doncasters, Inc., Blairsville, PA; Notice of Negative Determination on Reconsideration

On January 25, 2012, the Department of Labor issued an Affirmative Determination Regarding Application for Reconsideration for the workers and former workers of Specialty Bar Products Company, a subsidiary of Doncasters, Inc., Blairsville, Pennsylvania (subject firm). The Department's Notice was published in the Federal Register on February 8, 2012 (77 FR 6584). Workers at the subject firm are engaged in activities related to the production of pins, bushings, and gun blanks.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that the subject firm did not shift the production of pins, bushings, or gun blanks (or like or directly competitive articles) to a foreign country or acquire the production of such articles from a foreign country. The investigation also revealed that neither the subject firm nor its customers imported articles like or directly competitive with those produced by the subject firm.

The initial investigation also revealed that with respect to Section 222(b)(2) of the Act, the subject firm is neither a Supplier nor Downstream Producer to a firm that employed a group of workers who received a certification of eligibility under Section 222(a) of the Act, 19 U.S.C. 2272(a).

The request for reconsideration stated that the subject firm is owned by a company located in the United Kingdom, the subject firm “provided products to international companies such as William Cook Defense, Sheffield England” and due to “the international corporate company in the United Kingdom, a significant decrease in production orders resulted in reduction of work force within Specialty Bar Products.”

Information obtained during the reconsideration investigation confirmed that the subject workers are engaged in activities related to the production of pins, bushings, and shotgun blanks, and clarified that the subject firm does not produce firearms, vehicles, or equipment that utilizes these articles.

Information obtained during the reconsideration investigation also confirmed that the subject firm is owned by Doncasters Group Ltd in Centrum, United Kingdom.

The reconsideration investigation also confirmed that the subject firm did not shift the production of pins, bushings, or shotgun blanks (or like or directly competitive articles) to a foreign country or acquire the production of such articles from a foreign country.

During the reconsideration investigation, the Department obtained information which reflects that while William Cook Defense is a customer, it was not a major declining customer. The customer surveyed during the initial investigation constituted a significant majority of the subject firm's sales declines.

During the reconsideration, the Department confirmed that neither the subject firm nor its major declining customer imported articles like or directly competitive with those produced by the subject firm. Specifically, the Department surveyed the subject firm's major declining customer in regard to imports of pins, bushings, and shotgun blanks (or like or directly competitive articles). The investigation revealed no such imports.

The investigation also revealed that with respect to Section 222(b)(2) of the Act, the subject firm is neither a Supplier nor Downstream Producer to a firm that employed a group of workers who received a certification of eligibility under Section 222(a) of the Act, 19 U.S.C. 2272(a).

Based on a careful review of information obtained during the initial and reconsideration investigations, the Department determines that 29 CFR 90.18(c) has not been met.

Conclusion

After careful review, I determine that the requirements of Section 222 of the Act, 19 U.S.C. 2272, have not been met and, therefore, deny the petition for group eligibility Specialty Bar Products Company, a subsidiary of Doncasters, Inc., Blairsville, Pennsylvania, to apply for adjustment assistance, in accordance with Section 223 of the Act, 19 U.S.C. 2273.

Signed in Washington, DC, on this 26th day of June, 2012.
Del Min Amy Chen,
Certifying Officer, Office of Trade Adjustment Assistance.

[FR Doc. 2012-16735 Filed 7-9-12; 8:45 am]

BILLING CODE 4510-FN-P